DEPARTMENT OF DEFENSE

Office of the Secretary; Meeting of the Defense Finance and Accounting Service Board of Advisors

AGENCY: Office of the Under Secretary of Defense (Comptroller), Department of Defense.

ACTION: Notice of meeting.

SUMMARY: This notice sets forth the schedule and summary agenda for the second meeting of the Defense Finance and Accounting Service (DFAS) Board of Advisors. The Deputy Secretary of Defense chartered the Board on October 4, 2000, to provide advice and recommendations to the Secretary of Defense and Deputy Secretary of Defense regarding the mission of DFAS as it transforms its financial management operations, processes, and systems. The meeting will be open to the public. Notice of this meeting is required under the Federal Advisory Committee Act.

DATES: Wednesday, May 8, 2002.

ADDRESSES: Sheraton Crystal City, Ballroom A, 1800 Jefferson Davis Highway, Arlington, VA 22202.

FOR FURTHER INFORMATION CONTACT: Contact Beverly A. Lemon, Corporate Planning, DFAS, Crystal Mall 3 (room 206), 1931 Jefferson Davis Highway, Arlington, VA 22240. Telephone (703) 607-5084.

SUPPLEMENTARY INFORMATION:

Proposed Schedule and Agenda

The Defense Finance and Accounting Service Board of Advisors will meet in open session from 2 p.m. to 4 p.m. on May 8, 2002. The meeting will include status of action items from the October 31, 2001, Board of Advisors meeting, status of the DFAS Corporate Balanced Scorecard, and the DFAS Transformation Plan.

Public seating is limited, and is available on a first-come first-served basis.

Dated: April 2, 2002.
Patricia L. Toppings,
Alternate OSD Federal Register Liaison Officer, Department of Defense.

[FR Doc. 02-8473 Filed 4-8-02; 8:45 am]

BILLING CODE 5001-08-M